FEDERAL RETIREMENT THRIFT INVESTMENT BOARD

Sunshine Act; Notice of Joint Meeting of the Federal Retirement Thrift Investment Board and the Employee Thrift Advisory Council

TIME AND DATE: 8:30 a.m. (Eastern Time) May 18, 2015.

PLACE: 10th Floor Training Room, 77 K Street NE., Washington, DC 20002.

STATUS: Open to the public.

MATTERS TO BE CONSIDERED:

Open to the Public

1. Approval of the Minutes of the April 20, 2015 Federal Retirement Thrift Investment Board (FRTIB) Board Member Meeting

2. Approval of the Minutes of the November 12, 2014 Employee Thrift Advisory Council (ETAC) Meeting

3. Selection of ETAC Chairman and Vice Chairman

4. Monthly Reports

(a) Monthly Participant Activity Report

(b) Monthly Investment Performance Report

(c) Legislative Report

5. Quarterly Metrics Report

6. Office of Communications and Education Report

7. Office of Enterprise Planning Report/Benchmarking Presentation

8. Now & Later Presentation

CONTACT PERSON FOR MORE INFORMATION: Kimberly Weaver, Director, Office of External Affairs, (202) 942-1640.

Dated: May 7, 2015.
James Petrick,
General Counsel, Federal Retirement Thrift Investment Board.

[FR Doc. 2015-11494 Filed 5-8-15; 11:15 am]

BILLING CODE 6760-01-P